OFFICE OF PERSONNEL MANAGEMENT

National Council on Federal Labor-Management Relations Meeting

AGENCY: Office of Personnel Management.

ACTION: Notice of meeting.

SUMMARY: The National Council on Federal Labor-Management Relations plans to meet on Wednesday, May 20, 2015.

The meeting will start at 10:00 a.m. EDT and will be held at the General Services Administration (GSA), 1800 F Street NW., Room 1459, Washington, DC 20405. This is a change from the previous location announced in a Federal Register notice published February 2, 2015 at 80 FR 5589. Interested parties should consult the Council Web site at www.lmrcouncil.gov for the latest information on Council activities, including changes in meeting logistics.

The Council is an advisory body composed of representatives of Federal employee organizations, Federal management organizations, and senior Government officials. The Council was established by E. O. 13522, entitled, “Creating Labor-Management Forums to Improve Delivery of Government Services,” which was signed by the President on December 9, 2009. Along with its other responsibilities, the Council assists in the implementation of Labor Management Forums throughout the Government and makes recommendations to the President on innovative ways to improve delivery of services and products to the public while cutting costs and advancing employee interests. The Council is co-chaired by the Director of the Office of Personnel Management and the Deputy Director for Management of the Office of Management and Budget.

At its meetings, the Council will continue its work in promoting cooperative and productive relationships between labor and management in the executive branch, by carrying out the responsibilities and functions listed in section 1(b) of the E. O. The meetings are open to the public. Please contact the Office of Personnel Management at the address shown below if you wish to present material to the Council at the meeting. The manner and time prescribed for presentations may be limited, depending upon the number of parties that express interest in presenting information.

FOR FURTHER INFORMATION CONTACT: Tim Curry, Deputy Associate Director for Partnership and Labor Relations, Office of Personnel Management, 1900 E Street NW., Room 7H28, Washington, DC 20415. Phone (202) 606-2930 or email at PLR@opm.gov.

For the National Council.
Katherine Archuleta,
Director.

[FR Doc. 2015-09842 Filed 4-27-15; 8:45 am]

BILLING CODE 6325-39-P